DEPARTMENT OF ENERGY

Federal Energy Regulatory Commission

Combined Notice of Filings #1

Take notice that the Commission received the following electric corporate filings:

Docket Numbers: EC16-82-000.

Applicants: Lakewood Cogeneration, LP, Essential Power Rock Springs, LLC, Essential Power OPP, LLC, Essential Power Newington, LLC, Essential Power Massachusetts, LLC, Essential Power, LLC, Nautilus Generation, LLC.

Description: Application for Authorization for Disposition of Jurisdictional Facilities and Request for Expedited Action of Essential Power, LLC, et. al.

Filed Date: 2/29/16.

Accession Number: 20160229-5425.

Comments Due: 5 p.m. ET 3/21/16.

Docket Numbers: EC16-83-000.

Applicants: High Lonesome Mesa Wind Holdings, LLC, High Lonesome Holdings, LLC.

Description: Application for Authorization under Section 203 of the Federal Power Act of High Lonesome Holdings, LLC, et. al.

Filed Date: 2/29/16.

Accession Number: 20160229-5457.

Comments Due: 5 p.m. ET 3/21/16.

Take notice that the Commission received the following exempt wholesale generator filings:

Docket Numbers: EG16-61-000.

Applicants: Black Hills Colorado IPP, LLC.

Description: Notice of Self-Certification of Exempt Wholesale Generator Status of Black Hills Colorado IPP, LLC.

Filed Date: 2/29/16.

Accession Number: 20160229-5420.

Comments Due: 5 p.m. ET 3/21/16.

Take notice that the Commission received the following electric rate filings:

Docket Numbers: ER15-861-008.

Applicants: California Independent System Operator Corporation.

Description: Compliance filing: 2016-02-29 Petition for Extension of Waiver Period (ABC) to be effective N/A.

Filed Date: 2/29/16.

Accession Number: 20160229-5385.

Comments Due: 5 p.m. ET 3/7/16.

Docket Numbers: ER16-469-001.

Applicants: Midcontinent Independent System Operator, Inc.

Description: Compliance filing: 2016-03-01_Order 1000 CTDS Variance Analysis Compliance Filing to be effective 2/3/2016.

Filed Date: 3/1/16.

Accession Number: 20160301-5239.

Comments Due: 5 p.m. ET 3/22/16.

Docket Numbers: ER16-551-001.

Applicants: ISO New England Inc.

Description: Tariff Amendment: Response to 2/12/16 Letter Regarding FCM Resource Retirement Reforms to be effective 3/1/2016.

Filed Date: 2/29/16.

Accession Number: 20160229-5374.

Comments Due: 5 p.m. ET 3/14/16.

Docket Numbers: ER16-1023-000.

Applicants: ISO New England Inc., NSTAR Electric Company, The Connecticut Light and Power Company, Public Service Company of New Hampshire, Western Massachusetts Electric Company.

Description: Informational Filing of Eversource Energy Service Company.

Filed Date: 2/29/16.

Accession Number: 20160229-5193.

Comments Due: 5 p.m. ET 3/21/16.

Docket Numbers: ER16-1023-001.

Applicants: ISO New England Inc., NSTAR Electric Company, The Connecticut Light and Power Company, Public Service Company of New Hampshire, Western Massachusetts Electric Company.

Description: Tariff Amendment: Eversource Energy, ER16-1023-000, Filing to Substitute Partial Tariff Record to be effective 6/1/2016.

Filed Date: 3/1/16.

Accession Number: 20160301-5226.

Comments Due: 5 p.m. ET 3/22/16.

Docket Numbers: ER16-1037-000.

Applicants: Southwest Power Pool, Inc.

Description: § 205(d) Rate Filing: Hold Harmless for Manual Exclusion of Operating Reserve to be effective 5/1/2016.

Filed Date: 2/29/16.

Accession Number: 20160229-5378.

Comments Due: 5 p.m. ET 3/21/16.

Docket Numbers: ER16-1038-000.

Applicants: Entergy Louisiana, LLC.

Description: § 205(d) Rate Filing: ELL-SRMPA 8th Extension of Interim Agreement to be effective 3/1/2016.

Filed Date: 2/29/16.

Accession Number: 20160229-5381.

Comments Due: 5 p.m. ET 3/21/16.

Docket Numbers: ER16-1039-000.

Applicants: Midcontinent Independent System Operator, Inc.

Description: § 205(d) Rate Filing: 2016-02-29 Day Ahead Market Extension Filing to be effective 4/29/2016.

Filed Date: 2/29/16.

Accession Number: 20160229-5384.

Comments Due: 5 p.m. ET 3/21/16.

Docket Numbers: ER16-1040-000.

Applicants: Southwest Power Pool, Inc.

Description: § 205(d) Rate Filing: Cost Eligibility for Day-Ahead Market and RUC Make Whole Payments to be effective 5/1/2016.

Filed Date: 3/1/16.

Accession Number: 20160301-5000.

Comments Due: 5 p.m. ET 3/22/16.

Docket Numbers: ER16-1041-000.

Applicants: ISO New England Inc.

Description: ISO New England Inc. Forward Capacity Auction Results 10 Filing.

Filed Date: 02/29/16.

Accession Number: 20160229-5407.

Comments Due: 5 p.m. ET 04/14/16.

Docket Numbers: ER16-1043-000.

Applicants: Southwest Power Pool, Inc.

Description: § 205(d) Rate Filing: Relax Minimum Run Time for Self-Committed Resources to be effective 5/1/2016.

Filed Date: 3/1/16.

Accession Number: 20160301-5177.

Comments Due: 5 p.m. ET 3/22/16.

Docket Numbers: ER16-1044-000.

Applicants: Duke Energy Indiana, LLC.

Description: § 205(d) Rate Filing: 2016 Annual Reconciliation Filing RS 253 to be effective 7/1/2015.

Filed Date: 3/1/16.

Accession Number: 20160301-5194.

Comments Due: 5 p.m. ET 3/22/16.

Docket Numbers: ER16-1045-000.

Applicants: Duke Energy Florida, LLC, Duke Energy Progress, LLC, Duke Energy Carolinas, LLC.

Description: § 205(d) Rate Filing: Joint OATT Amendment—SGIA, LGIA and Attachment T to be effective 5/1/2016.

Filed Date: 3/1/16.

Accession Number: 20160301-5240.

Comments Due: 5 p.m. ET 3/22/16.

Docket Numbers: ER16-1046-000.

Applicants: Huntley Power LLC.

Description: Tariff Cancellation: Notice of Cancellation to be effective 3/2/2016.

Filed Date: 3/1/16.

Accession Number: 20160301-5329.

Comments Due: 5 p.m. ET 3/22/16.

Docket Numbers: ER16-1047-000.

Applicants: Dry Lots Wind LLC.

Description: Petition of Dry Lots Wind LLC for Expedited Waiver of the Regulatory Milestone Deadline Under the New York Independent System Operator, Inc. OATT and Request For Shortened Notice Period.

Filed Date: 3/1/16.

Accession Number: 20160301-5358.

Comments Due: 5 p.m. ET 3/15/16.

Docket Numbers: ER16-1049-000.

Applicants: Southwest Power Pool, Inc.

Description: § 205(d) Rate Filing: 2794 MISO Non-Firm PTP Cancellation to be effective 1/29/2014.

Filed Date: 3/1/16.

Accession Number: 20160301-5368.

Comments Due: 5 p.m. ET 3/22/16.

Docket Numbers: ER16-1050-000.

Applicants: Southwest Power Pool, Inc.

Description: § 205(d) Rate Filing: Settlement of Costs Following Substitution of Operating Reserve Products to be effective 5/1/2016.

Filed Date: 3/1/16.

Accession Number: 20160301-5378.

Comments Due: 5 p.m. ET 3/22/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 1, 2016.
Nathaniel J. Davis, Sr.,
Deputy Secretary.

[FR Doc. 2016-04951 Filed 3-4-16; 8:45 am]

BILLING CODE 6717-01-P